DEPARTMENT OF ENERGY

Federal Energy Regulatory Commission

Combined Notice of Filings #2

Take notice that the Commission received the following electric rate filings:

Docket Numbers: ER12-757-000.

Applicants: ISO New England Inc.

Description: Response to Commission Information Request of ISO New England Inc.

Filed Date: 2/13/12.

Accession Number: 20120213-5199.

Comments Due: 5 p.m. ET 2/22/12.

Docket Numbers: ER12-1089-001.

Applicants: ITC Midwest LLC.

Description: Amendment to ITC Midwest—Storm Lake Power Partners Notice of Succession Filing to be effective 4/16/2012.

Filed Date: 2/15/12.

Accession Number: 20120215-5034.

Comments Due: 5 p.m. ET 3/7/12.

Docket Numbers: ER12-1094-000.

Applicants: PJM Interconnection, L.L.C.

Description: Revisions to the OATT, OA & TOA re Direct Billing of TOs re Late Outages to be effective 4/16/2012.

Filed Date: 2/15/12.

Accession Number: 20120215-5039.

Comments Due: 5 p.m. ET 3/7/12.

Docket Numbers: ER12-1095-000.

Applicants: PJM Interconnection, L.L.C.

Description: Revisions to the OATT, OA & TOA re Direct Billing of TOs re Late Outages to be effective 4/16/2012.

Filed Date: 2/15/12.

Accession Number: 20120215-5040.

Comments Due: 5 p.m. ET 3/7/12.

Docket Numbers: ER12-1096-000.

Applicants: Liberty Power Corp, LLC.

Description: Notice of Cancellation of Market-Based Rate Authority.

Filed Date: 2/15/12.

Accession Number: 20120215-5061.

Comments Due: 5 p.m. ET 3/7/12.

Docket Numbers: ER12-1097-000.

Applicants: Liberty Power New York LLC.

Description: Liberty Power New York, LLC Notice of Cancellation of Market-Based Rate Authority.

Filed Date: 2/15/12.

Accession Number: 20120215-5062.

Comments Due: 5 p.m. ET 3/7/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2012.
Nathaniel J. Davis, Sr.,
Deputy Secretary.

[FR Doc. 2012-4187 Filed 2-22-12; 8:45 am]

BILLING CODE 6717-01-P